DEPARTMENT OF COMMERCE

National Oceanic and Atmospheric Administration

RIN 0648-XD279

North Pacific Fishery Management Council; Public Meeting

AGENCY: National Marine Fisheries Service (NMFS), National Oceanic and Atmospheric Administration (NOAA), Commerce.

ACTION: Notice of a public meeting.

SUMMARY: The North Pacific Fishery Management Council (Council) and Alaska Board of Fisheries (AK BOF) Joint Protocol Committee will meet in Anchorage, AK.

DATES: The meeting will be held on May 21, 2014, from 10 a.m. to 5 p.m.

ADDRESSES: The meeting will be held at the Clarion Suites, 1110 8th Avenue, Heritage Room, Anchorage, AK.

Council address: North Pacific Fishery Management Council, 605 W. 4th Ave., Suite 306, Anchorage, AK 99501-2252.

FOR FURTHER INFORMATION CONTACT: AK BOF Staff; telephone: (907) 465-4110 or Council staff: (907) 271-2809.

SUPPLEMENTARY INFORMATION: The Committee will review the following: Update on Council action on Gulf of Alaska trawl bycatch management; Board of Fisheries Pollock Workgroup; Bering Sea Aleutian Island (BSAI) Pacific cod Total Allowable Catch split and state-water Guideline Harvest Levels fisheries; BSAI crab actions; Board actions in March; Council crab bycatch motion; Proposed Change to Groundfish Possession and Landing Requirements.

The Agenda is subject to change, and the latest version will be posted at http://www.npfmc.org/.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: April 30, 2014.
Tracey L. Thompson,
Acting Deputy Director, Office of Sustainable Fisheries, National Marine Fisheries Service.

[FR Doc. 2014-10268 Filed 5-5-14; 8:45 am]

BILLING CODE 3510-22-P